DEPARTMENT OF TRANSPORTATION

Federal Motor Carrier Safety Administration

[Docket No. FMCSA-2025-0130]

Agency Information Collection Activities; Renewal of an Approved Information Collection: Annual Report of Class I and Class II For-Hire Motor Carriers

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. FMCSA requests approval to renew an ICR titled, “Annual Report of Class I and Class II For-Hire Motor Carriers,” OMB Control No. 2126-0032. This ICR applies to Class I and Class II for-hire motor carriers of property (Form M) and Class I for-hire motor carriers of passengers (Form MP-1) and collects financial, operating, equipment, and employment data from individual motor carriers of property and household goods and from individual motor carriers of passengers. This ICR is necessary to comply with FMCSA's financial and operating statistics requirements at chapter III of title 49 CFR part 369 titled, “Reports of Motor Carriers.”

DATES: Comments on this notice must be received on or before December 18, 2025.

ADDRESSES: Written comments and recommendations for the proposed information collection should be submitted within 30 days of publication of this notice to www.reginfo.gov/public/do/PRAMain. Find this information collection by selecting “Currently under 30-day Review—Open for Public Comments” or by using the search function.

FOR FURTHER INFORMATION CONTACT: Mr. Jeffrey Secrist, Office of Registration, Chief, Registration Division, DOT, FMCSA, 1200 New Jersey Avenue SE, Washington, DC 20590-0001; (202) 385-2367; jeff.secrist@dot.gov.

SUPPLEMENTARY INFORMATION:

Title: Annual Report of Class I and Class II For-Hire Motor Carriers.

OMB Control Number: 2126-0032.

Type of Request: Renewal of a currently approved information collection.

Respondents: Class I and Class II For-Hire Motor Carriers of Property and Class I For-Hire Motor Carriers of Passengers.

Estimated Number of Respondents: 12 total (4 per year).

Estimated Time per Response: 9 hours for Form M and 0.3 hours for Form MP-1.

Expiration Date: November 30, 2025.

Frequency of Response: Annually.

Estimated Total Annual Burden: 36 hours [36 hours (Form M) + 0 hours (Form MP-1)].

Background

Title 49, United States Code (U.S.C.) section 14123 requires certain for-hire motor carriers of property, passengers, and household goods to file annual financial reports. The annual reporting program was implemented on December 24, 1938 (3 FR 3158), and it was subsequently transferred from the Interstate Commerce Commission to DOT's Bureau of Transportation Statistics (BTS) on January 1, 1996. The Secretary of Transportation delegated to BTS the responsibility for the program on December 17, 1996 (61 FR 68162). Responsibility for collection of the reports was transferred from BTS to FMCSA on August 17, 2004 (69 FR 51009), and the regulations were redesignated as 49 CFR part 369 on August 10, 2006 (71 FR 45740). FMCSA collects carriers' annual reports and furnishes copies of the reports when requested under the Freedom of Information Act (FOIA). Annual financial reports are filed on Form M (Class I and II for-hire property carriers, including household goods carriers) and Form MP-1 (Class I for-hire passenger carriers). For-hire motor carriers (including interstate and intrastate) subject to the Federal Motor Carrier Safety Regulations are classified on the basis of their gross carrier operating revenues.¹

¹ For purposes of the Financial and Operating Statistics program, carriers are classified into the following two groups: (1) Class I carriers are those having annual carrier operating revenues (including interstate and intrastate) of $10 million or more after applying the revenue deflator formula as set forth in Note A of 49 CFR 369.2; and (2) Class II carriers are those having annual carrier operating revenues (including interstate and intrastate) of at least $3 million, but less than $10 million after applying the revenue deflator formula as set forth in 49 CFR 369.2

The data and information collected is publicly available through FOIA requests. FMCSA has created electronic forms that may be prepared, signed electronically, and submitted to FMCSA via https://ask.fmcsa.dot.gov/app/ask/.

The estimated annual respondents for Form M decreased from 34 in the previously approved ICR to 4 in the current ICR. The estimated annual burden hours for Form M decreased by 270 hours [36 proposed hours − 306 currently approved hours = −270 hours]. Estimated annual respondents for Form MP-1 stayed the same. The previously approved ICR had 0 annual hours. The current ICR has 0 annual hours. This estimate is based off the number of Form M and Form MP-1 submissions received by the Agency between 2022 and 2024, which results in these estimates of annual respondents/responses for the upcoming information collection period.

Labor costs to industry have decreased by $12,491 annually [$2,007 in proposed costs − $14,498 currently approved costs = −$12,491]. This is due to the decreased estimates of annual respondents/responses. Other annual costs to respondents (i.e., associated with mailing completed forms to FMCSA) have decreased by $30 [($4 in proposed mailing costs for Form M + $0 in proposed mailing costs for Form MP-1) − ($34 in previously approved mailing costs for Form M + $0 in previously approved mailing costs for Form MP-1) = −$30]. This change is also due to the decreased estimates of annual respondents/responses.

For the Federal Government, annual costs have decreased by $68 [$11 in proposed costs − $79 in previously approved costs = −$68]. This change is due to the decreased estimates of annual respondents/responses.

On July 28, 2025, FMCSA published a notice in the Federal Register (90 FR 35569) with a 60-day public comment period to announce its intention to submit this ICR to OMB for renewal. FMCSA received one comment, which was not relevant to the ICR.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Jonathan Mueller,
Acting Associate Administrator, Office of Research and Registration.

[FR Doc. 2025-20070 Filed 11-17-25; 8:45 am]

BILLING CODE 4910-EX-P